DEPARTMENT OF HOUSING AND URBAN DEVELOPMENT

[Docket No. FR-4994-N-01; HUD-2005-0012]

Request for Comments on HUD's Draft Section 504 Self-Evaluation Report on HUD-Conducted Programs and Activities

AGENCY: Office of the Assistant Secretary for Fair Housing and Equal Opportunity, HUD.

ACTION: Notice.

SUMMARY: Through this notice, HUD solicits public comment on its draft self-evaluation report of HUD-conducted programs and activities and regional office facilities. The draft report was prepared consistent with HUD's responsibilities under section 504 of the Rehabilitation Act of 1973 and HUD's implementing regulations. The draft report consists of two phases. Phase I assesses HUD's current policies and practices (including regulations, handbooks, notices, and other written guidance) and the effects of those policies and practices on the ability of persons with disabilities to access and use all HUD-conducted programs and activities. Phase II assesses the accessibility of HUD regional office facilities. The draft report also discusses the methodology HUD used to conduct the self-evaluation, and contains recommendations for addressing identified barriers. HUD will issue a final self-evaluation report after consideration of the public comments received on the draft report.

DATES: Comments Due Date: July 22, 2005.

ADDRESSES: Interested persons are invited to submit comments regarding this notice to the Regulations Division, Office of General Counsel, Room 10276, Department of Housing and Urban Development, 451 Seventh Street, SW., Washington, DC 20410-0500. Electronic comments may be submitted through either:

• The Federal eRulemaking Portal: at http://www.regulations.gov; or

• The HUD electronic Web site at: http://www.epa.gov/feddocket. Follow the link entitled “View Open HUD Dockets.” Commenters should follow the instructions provided on that site to submit comments electronically. Facsimile (FAX) comments are not acceptable. In all cases, communications must refer to the docket number and title.

All comments and communications submitted will be available, without charge, for public inspection and copying between 8 a.m. and 5 p.m. weekdays at the above address. Due to security measures at the HUD Headquarters building, please schedule an appointment to review the public comments by calling the Regulations Division at (202) 708-3055 (this is not a toll-free number). Copies of the public comments are also available for inspection and downloading at http://www.epa.gov/feddocket.

FOR FURTHER INFORMATION CONTACT: Milton Turner, Director, Compliance and Disability Rights Division, Office of Fair Housing and Equal Opportunity, Department of Housing and Urban Development, 451 Seventh Street, SW., Room 5240, Washington, DC 20410-2000; telephone (202) 708-2333, extension 7057 (this is not a toll free number). Hearing or speech-impaired individuals may access this number via TTY by calling the toll-free Federal Information Relay Service at 1-800-877-8339.

SUPPLEMENTARY INFORMATION:

I. HUD Section 504 Self-Evaluation

HUD has conducted a self-evaluation of its regional office facilities and its policies and practices, consistent with HUD's responsibilities under section 504 of the Rehabilitation Act of 1973 (29 U.S.C. 794) (Section 504). Section 504 prohibits discrimination on the basis of disability in federally assisted programs and activities. In 1978, Section 504 was amended to extend its coverage to programs and activities conducted by federal executive agencies, including HUD. The Department's regulations implementing Section 504 for its programs and activities are codified at 24 CFR part 9 (entitled “Enforcement of Nondiscrimination on the Basis of Disability in Programs and Activities conducted by the Department of Housing and Urban Development”).

The objective of the self-evaluation is two-fold: (1) To determine whether current HUD policies and practices (including regulations, handbooks, notices, and other written guidance) discriminate, or have the effect of discriminating, on the basis of disability; and (2) to determine if HUD facilities are accessible to persons with disabilities. The types of disability discrimination the self-evaluation seeks to disclose include those situations where:

1. Otherwise qualified persons are excluded from participation in, or denied benefits of, HUD programs and activities on the basis of disability;

2. HUD policies that, although neutral on their face, in operation limit the ability of persons with disabilities to benefit from program opportunities (e.g., requiring a person to make a written request for information on HUD's assisted housing programs); and

3. Separate or different benefits or services are provided to persons on the basis of disability where such action is not required to provide a benefit or service as effective as those provided to others (e.g., holding a separate training program for persons with hearing impairments is discriminatory when the training can be effectively held in an integrated setting with the provision of interpreters).

II. Draft Self-Evaluation Report

HUD has prepared a draft report presenting the results of its self-evaluation. The draft report also discusses the methodology HUD used to conduct the self-evaluation, and contains recommendations for addressing identified barriers. The HUD draft report is located at http://www.hud.gov/offices/fheo/disabilities/index.cfm.

HUD seeks public comment on the draft report from interested parties, including persons with disabilities, or organizations representing individuals with disabilities. Comments must be submitted to HUD no later than July 22, 2005 and must be submitted to the address specified in the ADDRESSES section of this notice. HUD will issue a final self-evaluation report after consideration of the public comments received on the draft report.

Dated: June 14, 2005.
Roy A. Bernardi,
Deputy Secretary.

[FR Doc. 05-12242 Filed 6-21-05; 8:45 am]

BILLING CODE 4210-28-P